DEPARTMENT OF THE TREASURY

Alcohol and Tobacco Tax and Trade Bureau

27 CFR Part 9

[Notice No. 21]

RIN 1513-AA58

Proposed Ribbon Ridge Viticultural Area (2002R-215P)

AGENCY: Alcohol and Tobacco Tax and Trade Bureau, Treasury.

ACTION: Notice of proposed rulemaking.

SUMMARY: The Alcohol and Tobacco Tax and Trade Bureau has received a petition proposing the establishment of the “Ribbon Ridge” viticultural area in northern Yamhill County, Oregon, between Newberg and Gaston. This proposed viticultural area, which measures approximately 1.75 miles in width and 3.5 miles in length, lies approximately 22 miles southwest of Portland, Oregon, and 40 miles inland from the Pacific Ocean. As of 2002, at least 14 vineyards, totaling over 286 acres currently planted, plus 3 commercial wineries exist within the proposed boundaries of the Ribbon Ridge viticultural area. We believe the use of viticultural area names as appellations of origin in wine labeling and advertising helps consumers identify wines. It also allows wineries to better designate the specific grape-growing area in which their wine grapes were grown. We invite comments on this proposal.

DATES: We must receive written comments on or before January 2, 2004.

ADDRESSES: You may send comments to any of the following addresses—

• Chief, Regulations and Procedures Division, Alcohol and Tobacco Tax and Trade Bureau, P.O. Box 50221, Washington, DC 20091-0221 (Attn: Notice No. 21);

• 202-927-8525 (facsimile);

• nprm@ttb.gov (e-mail); or

• http://www.ttb.gov (An online comment form is posted with this notice on our Web site).

You may view copies of the proposed regulations and any comments received on this notice online at http://www.ttb.gov/alcohol/rules/index.htm and by appointment at our reference library, 1310 G Street, NW., Washington, DC 20005.

See the Public Participation section of this notice for specific instructions and requirements, and for information on how to request a public hearing.

FOR FURTHER INFORMATION CONTACT: Nancy Sutton, Specialist, Regulations and Procedures Division (Corvallis, Oregon), Alcohol and Tobacco Tax and Trade Bureau, 946 NW Circle Blvd. # 286, Corvallis, Oregon 97330; telephone 415-271-1254.

SUPPLEMENTARY INFORMATION:

Background

Authority To Establish Viticultural Areas

The Federal Alcohol Administration Act (FAA Act) at 27 U.S.C. 205(e) requires that alcohol beverage labels provide the consumer with adequate information regarding a product's identity, while prohibiting the use of misleading information on such labels. The FAA Act also authorizes the Secretary of the Treasury to issue regulations to carry out the FAA Act's provisions, and the Secretary has delegated this authority to the Alcohol and Tobacco Tax and Trade Bureau (TTB).

Regulations in 27 CFR part 4, Labeling and Advertising of Wine, allow the establishment of definitive viticultural areas. The regulations allow the name of an approved viticultural area to be used as an appellation of origin on wine labels and in wine advertisements. A list of approved viticultural areas is contained in 27 CFR part 9, American Viticultural Areas.

Definition of an American Viticultural Area

Title 27 CFR, section 4.25(e)(1), defines an American viticultural area as a delimited grape-growing region distinguishable by geographic features, the boundaries of which have been delineated in subpart C of part 9. These designations allow consumers and vintners to attribute a given quality, reputation, or other characteristic of the wine made from grapes grown in a viticultural area to its geographic origin. We believe that the establishment of viticultural areas allows wineries to describe more accurately the origin of their wines to consumers and helps consumers identify the wines they purchase. Establishment of a viticultural area is neither an approval nor endorsement by TTB of the wine produced there.

Requirements To Establish a Viticultural Area

Section 4.25(e)(2) outlines the procedure for proposing an American viticultural area. Any interested person may petition TTB to establish a grape-growing region as a viticultural area. The petition must include:

(a) Evidence that the name of the proposed viticultural area is locally or nationally known as referring to the area specified in the petition;

(b) Historical or current evidence that the boundaries of the viticultural area are as specified in the petition;

(c) Evidence that the proposed area's growing conditions, such as climate, soil, elevation, physical features, etc. distinguish it from surrounding areas;

(d) A description of the specific boundaries of the proposed viticultural area, based on features found on United States Geological Survey (USGS) maps of the largest applicable scale; and

(e) A copy (or copies) of the appropriate USGS map(s) with the boundaries prominently marked.

Impact on Current Wine Labels

As appellations of origin, viticultural area names have geographic significance. Our 27 CFR part 4 label regulations prohibit the use of a brand name with geographic significance on a wine unless the wine meets the appellation of origin requirements for the named area. Our regulations also prohibit any other label references that suggest an origin other than the true place of origin of the wine.

If we establish this proposed viticultural area, bottlers who use brand names, including trademarks, like Ribbon Ridge must ensure that their existing products are eligible to use the viticultural area's name as an appellation of origin. For a wine to be eligible, at least 85 percent of the grapes in the wine must have been grown within the viticultural area, and the wine must meet the other requirements of 27 CFR 4.25(e)(3).

If the wine is not eligible for the appellation, the bottler must change the brand name or other label reference and obtain approval of a new label. Different rules apply to a wine in this category bearing a brand name that was used on a label approved prior to July 7, 1986. See 27 CFR 4.39(i) for details.

Ribbon Ridge Petition

General Information

We have received a petition from Alex Sokol-Blosser, secretary of the North Willamette Valley AVA Group, proposing a new viticultural area to be called the “Ribbon Ridge.” Harry Peterson-Nedry and Doug Tunnell authored the petition. This proposed viticultural area, located in the northern part of Yamhill County, Oregon, between Newberg and Gaston, approximately 22 miles southwest of Portland, Oregon, and 40 miles inland from the Pacific Ocean. Measuring approximately 1.75 miles in width and 3.5 miles in length, the proposed area includes a total of 3,350 acres (5.25 square miles), of which 1,000 to 1,400 acres are suited to premium wine grape planting. As of 2002, at least 14 vineyards, totaling over 286 acres currently planted, plus 3 commercial wineries exist within the proposed boundaries of the Ribbon Ridge viticultural area. Four additional vineyards and three additional wineries are currently in the planning stage and should be developed within the next 3 years. If established, they would fall within the proposed viticultural area.

The proposed Ribbon Ridge viticultural area consists of a 3.5- by 1.75-mile distinct ridge that is separate from the higher surrounding landmass. It has significant, marked drainage on all sides and is a single, evident landmass of uniform shape and composition that differs from the hillside sites in the vicinity. The petitioners decided to use physical features, soil, and to a lesser extent, elevation and climate, as the primary factors in defining the boundaries of the proposed area.

Evidence That the Name of the Area Is Locally or Nationally Known

The petitioners state the geological formation on which the proposed viticultural area is located has been continuously referred to as Ribbon Ridge since before 1888. Ribbon Ridge was given its name by Colby Carter, an early settler who came from Missouri in 1865. Since that time, the formation has been consistently referred to as Ribbon Ridge and is so identified on USGS and other maps. The first official use of the name “Ribbon Ridge” in conjunction with this area dates to 1888 with the creation of the Ribbon Ridge School District #68 by Yamhill County Schools. The school began operations in 1889 and was in use through at least 1953.

A reference to Ribbon Ridge appeared in the “Oregon Historical Quarterly,” Vol. XLIV, page 307, March-December 1943: “Ribbon Ridge is a spur in the southwest part of the Chehalem Mountains, about east of Yamhill. The top of the ridge twists like a ribbon, hence the name.” The petitioners provided evidence that Ribbon Ridge is an official location name in Oregon and the United States. It is registered in the Department of Interior and U.S. Geological Survey's Geonames database.

The term “Ribbon Ridge” figures prominently on the USGS Dundee Quadrangle map submitted with this petition.

Historical or Current Evidence That Supports the Proposed Boundaries

The petitioners assert that the proposed viticultural area is an evident landmass of uniform shape and composition that differs from the hillside sites in the vicinity, which are appropriate for wine grapes in historical, climatic, and geological ways. Ribbon Ridge has been known as a distinct farming district, with its own name and its own mix of crops, ranging from walnuts, prunes, hazelnuts, hay, Christmas trees, timber lots, and cattle for more than a century. Many of these require the warmth and protection of the hillside site for economic distinction. Farmers from Ribbon Ridge are reported to have willingly differentiated themselves from adjoining areas such as Chehalem Valley, Kings Grade, and Rex Hills, even to the extent of establishing a separate school, when others existed in immediately adjacent areas.

Further, the petitioners offer evidence that, geographically, the proposed area is differentiated and separated from adjoining farming regions by the regularity and unaltered nature of the island-like ridge, its position as a mass broken free from other uplifts or larger hillsides, and the clean division its drainage system makes around the full perimeter of the landmass. Specifically, the Chehalem Creek Valley is deep, wide, and severely sloped on Ribbon Ridge's western flank. Where the Creek exits the hills, the Chehalem Valley is wide and flat at the 200-foot level to the south of Ribbon Ridge. Dopp and Ayres Creeks originate on the flank of the Chehalem Mountains underneath Bald Peak, flowing westward to accumulate Ribbon Ridge's drainage, and then diverging to the south and north, achieving the complete segregation of the ridge on the northwest side at an elevation of approximately 400 feet.

Roads have historically been built at the low spots around the ridge, and Dopp, Albertson, and North Valley Roads encircle Ribbon Ridge completely. Ribbon Ridge Road dissects the landmass, running the spine of the Ridge lengthwise, north to south. The petitioners state Ribbon Ridge is clearly defined by both elevation and Yamhill County roads. The proposed viticultural area is defined as the area at 240 feet in elevation or above, enclosed by the 10-mile county road loop.

Vineyard activity began on Ribbon Ridge in 1980 with the planting of Ridgecrest Vineyards. The first commercial vineyard was established in 1982 with the planting of 54 acres of Pinot Noir and Chardonnay. Yamhill Valley Vineyards first used grapes from these vineyards in wine production in 1985. It is estimated that between 1,000 and 1,400 acres in the proposed Ribbon Ridge viticultural area are suited to premium wine grape planting. Fourteen vineyards and three wineries are currently located on Ribbon Ridge, with 286 acres currently planted. Four additional vineyards and three additional wineries are currently in the planning stage and should be developed within the next 3 years. Vineyards or winery operations now own in excess of 700 total acres on Ribbon Ridge.

Evidence of Distinctive Geographical Features

The petitioners state that the proposed Ribbon Ridge viticultural area's boundaries are based primarily on a combination of topographic, elevation, and climatic factors that contrast with the surrounding Willamette Valley, Coast Range, and Columbia Gorge.

Physical Features

The petitioners assert that Ribbon Ridge, from the air, appears as an island that has broken off from the higher landmasses that surround it and floats freely above the Chehalem Valley floor. It extends southward from the Chehalem Mountains and rises above the floor of the Valley. Ribbon Ridge Road runs north to south along its spine. Ribbon Ridge is defined on the east and west by the watersheds that fall away from the road in both directions. It is separated from the Chehalem Mountains by Ayres Creek on the north and a creek known locally as Dopp Creek, which runs parallel to Dopp Road on the east and flows south to form the eastern boundary. On the western side of Ribbon Ridge, the Chehalem Creek Valley dramatically separates the proposed area from the Coast Range hillsides that are associated with the Yamhill-Carlton District. There is a gorge-like drop of 300 feet or more into the narrow quarter-mile ravine that widens at the foot of Ribbon Ridge into the broad, flat Chehalem Valley dividing the Chehalem Mountains from the Red Hills of Dundee area. This feature, more than any other, shows the separate nature of Ribbon Ridge's formation as an uplifted landmass of unique origin.

Soil

The petitioners state that the soils of Ribbon Ridge are relatively uniform, all being marine sedimentary and fine-textured (mainly Willakenzie series) at plantable elevations, without significant alterations from slides and erosion. Specifically, Ribbon Ridge is a distinct, natural, geological formation of eastward-tilted marine sedimentary strata dated to the upper Eocene. The Keasey Formation, exposed on the western side of the Ridge, is laminated to massive, pale gray, tuffaceous mudstone, to fine tuffaceous sandstone. The overlying Pittsburgh Bluffs Formation, exposed in the central and eastern side of the Ridge, is a massive to thick-bedded gray to tan, weathering, feldpathic litharenite with tuffaceous mudstone and sandstone. The petitioners assert that within the region Ribbon Ridge is unusual in the presence of only these two geological strata and the intact nature of these formations.

Further, they contend that, because the ridge is ancient and stable, the soils from these fine sedimentary parent materials are well weathered and consequently are, on average, deeper in profile and more finely structured than soils in surrounding areas.

As a consequence of its geological history, the soils of Ribbon Ridge are distinct from those of adjacent vineyards in several significant ways. Unlike the Chehalem Mountains to the north and east, the soils of ribbon Ridge are entirely derived from marine sedimentary parent materials. They are distinctly different from the alluvial sedimentary soils that constitute, in part or entirely, areas to the east of Ribbon Ridge or to the south in the Chehalem Valley flood plain. They are different from the adjacent volcanic soils in the proposed Chehalem Mountains and Red Hills of Dundee American viticultural areas. The petitioners also offered evidence that the soils of Ribbon Ridge are related but distinctly different from the marine sedimentary hillsides (mainly Willakenzie and Peavine Series) to the west of Chehalem Creek Gorge in the proposed Yamhill-Carlton area in that they are younger, finer, and more uniform due to finer parent materials of sandstone, siltstone, and mudstone.

Elevation

The petitioners state the proposed Ribbon Ridge viticultural area extends southward from the Chehalem Mountains and rises above the floor of the Chehalem Valley from approximately 200 feet to an elevation of 683 feet. The proposed area is defined as 240 feet in elevation or higher and is enclosed by a 9.85-mile county road loop. The area contains south-sloped plantings at elevations high enough to avoid valley soils (over 240 feet) but beneath the cooling effects of higher elevation (maximum height of area is 683 feet). The area between these two elevation lines receives maximum heat accumulation, as well as good air and water drainage.

Degree-day accumulations in the proposed area average 2,455, as compared to 2,541 at McMinnville (southwest of Ribbon Ridge) and 2,650 at Portland (northeast of Ribbon Ridge). The data on Ribbon Ridge is typical of hillside sites with earlier starts to warming, less nighttime temperature drops, and clipped heat spikes in midsummer that provide a consistent climate for adequate ripening. According to the petitioners, these features allow longer, cooler growing seasons, which are ideal for delicate varietals like Pinot Noir, Chardonnay, and Pinot Gris.

To the best of their knowledge, the petitioners state that all of the existing vineyards in the proposed viticultural area are located between 240 to 680 feet. Further, they believe the 240-foot contour line minimum height boundary will exclude alluvial soils, which are not best suited for viticulture.

Climate

The petitioners state that Ribbon Ridge's island-like characteristics and the proximity of surrounding landmasses tend to shield and uniquely protect the proposed area from many of the extremes that affect the other agricultural microclimates in the northern Willamette Valley. Air and water drainage exist on all sides. Low clouds tend to accumulate on the surrounding hilltops; fog tends to settle on the valley floor in early and late parts of the growing season. The Coast Range and Yamhill mountains to the west encourage weather systems to drop moisture before reaching Ribbon Ridge and to moderate wind extremes from Pacific storms. The Chehalem Mountains, Bald Peak, and Portland hill systems to the north tend to protect this area from the Columbia Gorge and eastern Oregon weather systems that deliver cold in the winter and heat or winds in the summer. The Dundee Hills to the south shield Ribbon Ridge from extreme winds that funnel coastal weather systems through the Van Duzer corridor, whether hot, cold, or wet in the summer or winter.

The petitioners provided an analysis of compiled daily weather data comparing exposed valley floor weather stations such as Salem (south of Ribbon Ridge), McMinnville (southwest of Ribbon Ridge), and Portland Airport (east of Ribbon Ridge) to hillside vineyard stations on Ribbon Ridge (Whistling Ridge). The analysis indicates a tendency towards slightly warmer and drier conditions on grape-growing hillsides of the northern valley, such as the proposed Ribbon Ridge viticultural area. These apparent differences are even more significant during the grape-growing season (April-October), when the nature of hillside warming is especially important in achieving ripening similar to that of warm valley sites without the risk of frost or the problems of excess soil moisture. Specifically, hillside data showed higher minimum (2-3 °F) and maximum (2-7 °F) daily temperatures during early and late growing seasons than those of exposed valley floor sites. This moderation permits early growth in the spring, consistent and even ripening with retention of acids over the summer, and a long, full ripening in the fall.

The petitioners supplied data suggesting precipitation on protected hillsides in the Ribbon Ridge area is up to 10 inches less, approximately 25 percent, than it is on unprotected valley sites. Growing season precipitation is reduced even farther, with 7.7 inches accumulated April-October on average, or approximately 35 percent reduction from the Coast Range or valley floor sites. For example, the annual rainfall at Whistling Ridge in the proposed Ribbon Ridge viticultural area averages 29 inches as compared to 36 inches for the Portland International Airport, (located east of the proposed area), 39 inches for Salem (south of Ribbon Ridge), while the Coast Range, located west of the Ribbon Ridge, has an average range of 80 inches to more than 100 inches per year. Further, the petitioners state that Ribbon Ridge's annual rainfall is less than other wine growing regions in the immediate vicinity, such as Yamhill-Carlton District's 42 inches, Chehalem Mountains' 37-60 inches, and Dundee Hills' 30-45 inches.

Proposed Boundaries

The USGS maps required for determining the boundary of the proposed Ribbon Ridge viticultural area are:

(1) Laurelwood Quadrangle, Oregon, 7.5 Minutes Series, 1956, revised 1978; and

(2) Dundee Quadrangle, Oregon, 7.5 Minute Series, 1956, revised 1993.

A complete description of the proposed area's boundaries is found in the proposed rule text below.

Public Participation

Comments Sought

We request comments from anyone interested. Please support your comments with specific information. Examples include name evidence and data about growing conditions or area boundaries. All comments must include your name and mailing address, reference this notice number, and be legible and written in language generally acceptable for public disclosure.

Although we do not acknowledge receipt, we will consider your comments if we receive them on or before the closing date. We will consider comments received after the closing date if we can. We regard all comments as originals.

Confidentiality

We do not recognize any submitted material as confidential. All comments are part of the public record and subject to disclosure. Do not enclose in your comments any material you consider confidential or inappropriate for disclosure.

Submitting Comments

You may submit comments in any of four ways.

• By mail: You may send written comments to TTB at the address listed in the ADDRESSES section.

• By facsimile: You may submit comments by facsimile transmission to 202-927-8525. Faxed comments must—

(1) Be on 8.5 by 11-inch paper;

(2) Contain a legible, written signature; and

(3) Be five or less pages long. This limitation assures electronic access to our equipment. We will not accept faxed comments that exceed five pages.

• By e-mail: You may e-mail comments to nprm@ttb.gov. Comments transmitted by electronic-mail must—

(1) Contain your e-mail address;

(2) Reference this notice number on the subject line; and

(3) Be legible when printed on 8.5 by 11-inch paper.

• By online form: We provide a comment form with the online copy of this proposed rule. See the TTB Internet Web site at http://www.ttb.gov/alcohol/rules/index.htm and select “Send comments via e-mail” under this notice number.

You may also write to the Administrator before the comment closing date to ask for a public hearing. The Administrator reserves the right to determine, in light of all circumstances, whether a public hearing will be held.

Disclosure

You may view copies of the petition, the proposed regulations, the appropriate maps, and any comments by appointment in our library at 1310 G Street, NW., Washington, DC 20005. You may also obtain copies at 20 cents per page. Telephone our librarian at 202-927-8210 if you want to schedule an appointment or to request copies of comments.

For your convenience, we will post comments received in response to this notice on the TTB Web site. We may omit voluminous attachments or material that we consider unsuitable for posting. In all cases, the full comment will be available in our reference library. To view the online copies of the comments on this rulemaking, visit http://www.ttb.gov/alcohol/rules/index.htm and select the “View comments” link under this notice number.

Regulatory Analyses and Notices

Paperwork Reduction Act

We propose no requirement to collect information. Therefore, the provisions of the Paperwork Reduction Act of 1995, 44 U.S.C. 3507, and its implementing regulations, 5 CFR part 1320, do not apply.

Regulatory Flexibility Act

We certify that this proposed regulation, if adopted, will not have a significant economic impact on a substantial number of small entities. This proposed regulation imposes no new reporting, recordkeeping, or other administrative requirements. Any benefit derived from the use of a viticultural area name would be the result of a proprietor's efforts and consumer acceptance of wines from that area. Therefore, no regulatory flexibility analysis is required.

Executive Order 12866

This proposed rule is not a significant regulatory action, as defined by Executive Order 12866, 58 FR 51735. Therefore, it requires no regulatory assessment.

Drafting Information

The principal author of this document is B.J. Kipp, Regulations and Procedures Division (Portland, Oregon), Alcohol and Tobacco Tax and Trade Bureau.

List of Subjects in 27 CFR Part 9

Wine.

Authority and Issuance

For the reasons discussed in the preamble, we propose to amend title 27, Code of Federal Regulations, part 9, American Viticultural Areas, as follows:

PART 9—AMERICAN VITICULTURAL AREAS

1. The authority citation for part 9 continues to read as follows:

Authority: 27 U.S.C. 205.

2. Subpart C is amended by adding Section 9.__ to read as follows:

Subpart C—Approved American Viticultural Areas

* * * * *

§ 9.__ Ribbon Ridge.

(a) Name. The name of the viticultural area described in this section is “Ribbon Ridge”.

(b) Approved Maps. The appropriate maps for determining the boundary of the Ribbon Ridge viticultural area are two 1:24,000 scale, United States Geological Survey, topographic maps. They are:

(1) Laurelwood Quadrangle, Oregon, 7.5 Minutes Series, 1956, photorevised 1978; and

(2) Dundee Quadrangle, Oregon, 7.5 Minute Series, 1956 (revised 1993).

(c) Boundaries. Ribbon Ridge viticultural area, located in northern Yamhill County, Oregon, between Newberg and Gaston, consists of the land at 240 feet in elevation or above within this 9.85-mile circumferential county road loop:

(1) The point of beginning is on the Laurelwood Quadrangle map, in Yamhill County, section 58, R3W, T2S, where the 240-foot contour line intersects with North Valley Road at the southern edge of the map;

(2) Proceed north 0.6 miles along the North Valley Road until it intersects with Albertson Road (shown but unnamed on the Laurelwood Quadrangle);

(3) Proceed east 0.2 miles along Albertson Road until it intersects with Dopp Road. (Approximate elevation ranges from 220 to 240 feet over this distance.);

(4) Proceed south, then east, and then south again 1.6 miles along Dopp Road (beside Ayres Creek) to the southern edge of the map, section 53, R3W, T2S. (Approximate elevation ranges from 220 to 460 feet over this distance.);

(5) Continue on the Dundee Quadrangle map, section 53, R3W, T2S. Proceed south 2.15 miles on Dopp Road to slightly south of the intersection of Dopp Road and Calkins Lane where the 240-foot contour line crosses Dopp Road. (Elevation ranges approximately 400-240 feet over this distance.);

(6) Proceed south on Dopp Road 1.1 miles to its intersection with North Valley Road. (Elevation ranges from 180 to 260 feet over this distance.);

(7) Proceed west on North Valley Road 1.0 miles to its intersection with Ribbon Ridge Road. (Elevation ranges from 180 to 260 feet over this distance.); and

(8) Proceed generally north on North Valley Road 3.2 miles to the northern edge of the Dundee Quadrangle to where the 240-foot contour line intersects with North Valley Road (the point of beginning), section 58, R3W, T2S. (Approximate elevation ranges from 180 to 220 feet over this distance.).

Signed: October 1, 2003.
Arthur J. Libertucci,
Administrator.

[FR Doc. 03-27586 Filed 10-31-03; 8:45 am]

BILLING CODE 4810-31-P